COMMITTEE FOR PURCHASE FROM PEOPLE WHO ARE BLIND OR SEVERELY DISABLED

Information Collection To Be Submitted to the Office of Management and Budget (OMB) for Approval Under the Paperwork Reduction Act; Initial Certification

AGENCY: Committee for Purchase From People Who Are Blind or Severely Disabled.

ACTION: Notice; request for comments.

SUMMARY: Committee for Purchase From People Who Are Blind or Severely Disabled (Committee) will submit the collection of information listed below to OMB for approval under the provisions of the Paperwork Reduction Act. This notice solicits comments on this collection of information.

DATES: Submit your written comments on the information collection on or before June 20, 2017.

ADDRESSES: Mail your comments on the requirement to Amy B. Jensen, Director Business Operations, Committee for Purchase From People Who Are Blind or Severely Disabled, 1401 S. Clark Street, Suite 715, Arlington, VA 22202-4149; fax (703) 603-0655; or email rulecomments@abilityone.gov.

FOR FURTHER INFORMATION CONTACT: To request a copy of the applicable forms or explanatory material, contact Amy B. Jensen or Barry S. Lineback at the address in the above paragraph or through the above email address.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB to approve a collection of information concerning the qualifications of nonprofit agencies serving people who are blind or who have other significant disabilities to participate in the AbilityOne Program. The Committee is requesting a 3-year term of approval for this information collection activity.

Federal agencies may not conduct or sponsor, and a person is not required to respond to, a collection of information unless it displays a currently valid OMB control number. The OMB control numbers for the current collections of information are 3037-0001 and 3037-0002. The OMB control number for the revised collection of information is 3037-0013.

The JWOD Act of 1971 (41 U.S.C. 8501-8506) is the authorizing legislation for the AbilityOne Program. The AbilityOne Program creates employment and training opportunities for people who are blind or who have other significant disabilities. Its primary means of doing so is by requiring Government agencies to purchase certain products and services from nonprofit agencies (NPA) employing such individuals. The AbilityOne Program is administered by the Committee. Two national, independent NPAs designated by the Committee, National Industries for the Blind (NIB) and SourceAmerica, help State and private nonprofit agencies participate in the AbilityOne Program.

The implementing regulations for the JWOD Act, which are located at 41 CFR Chapter 51, provide the requirements, procedures, and standards for the AbilityOne Program. Section 51-4.3 of the regulations sets forth the standards that a nonprofit agency must meet to maintain qualification for participation in the AbilityOne Program. Under this section of the regulations, a nonprofit agency that wants to continue to participate in the AbilityOne Program must submit a completed copy of the appropriate (Annual Representations and Certifications for AbilityOne Qualified Nonprofit Agency (OMB number 3037-0013). This documentation helps the Committee determine whether the nonprofit agency is meeting the requirements of the AbilityOne Program.

This information collection request seeks approval for the Committee to collect the information required under 41 CFR 51-4.3 of the regulations as part of its process to evaluate nonprofit agency qualifications under 41 CFR 51-2,4(a)(2). Whenever the result of a nonprofit agency's request to the Committee for the addition of a new product or service to the Procurement List (PL) exceeds $500,000 in total contract value, the nonprofit agency will be required to complete a project specific representations and certification form to ensure that the Committee has up-to-date and complete information about the nonprofit agency's qualifications to participate in the AbilityOne Program. This form is completed only for new additions of products or services to the PL, and does not include administrative additions, or any other administrative or fair market price changes, to the PL. The already established annual representations and certification form (OMB number: 3037-0013) will continue to be required. The project specific representations and certification form being certified has been developed to include the regulatory requirements of section 51-4.3 and to collect other information pertinent to the Committee's determination of nonprofit agency qualifications under 41 CFR 51-2.4(a) (b).

Title: Project Specific Representations and Certification Form for AbilityOne Qualified Nonprofit Agency.

OMB Control Number: 3037-0014.

Form Number: Project Specific Reps and Certs.

Description of Respondents: Nonprofit agencies serving people who are blind or significantly disabled that participate in the AbilityOne Program.

Annual Number of Respondents: About 469 nonprofit agencies serving people who are blind or significantly disabled annually participate in the AbilityOne Program.

Total Annual Burden Hours: Burden is estimated to average 2 hours per respondent. Total annual burden is 938 hours. Note: This burden estimate is only for the nonprofit agencies that will be submitting addition requests for a product or service with a total contract value exceeding $500,000. Therefore, not all participating NPAs will be required to complete the form.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Amy B. Jensen,
Director, Business Operations.

[FR Doc. 2017-08112 Filed 4-20-17; 8:45 am]

BILLING CODE 6353-01-P